DEPARTMENT OF ENERGY

Federal Energy Regulatory Commission

[Docket No. CP01-446-002]

ANR Pipeline Company; Notice of Compliance Filing

January 31, 2002.

Take notice that on January 28, 2002, ANR Pipeline Company (ANR), tendered for filing as part of its FERC Gas Tariff, the following tariff sheets, with an effective date of December 6, 2001:

Second Revised Volume No. 1

Second Revised Sheet No. 2B

Original Volume No.2

First Revised Sheet No. 249

ANR states that the above-referenced tariff sheets are being filed in compliance with the Commission's Order issued December 6, 2001, in Docket No. CP01-445-000, which vacated the certificate of public convenience and necessity under which Rate Schedule X-32 had been authorized, subject to ANR's compliance with part 154 of the Commission's Regulations within 20 days of the date of the Order. ANR has requested a waiver of the 20 day requirement to allow that the compliance filing be submitted out of time.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-2774 Filed 2-5-02; 8:45 am]

BILLING CODE 6717-01-P